DEPARTMENT OF EDUCATION

[Docket No.: ED-2017-ICCD-0144]

Agency Information Collection Activities; Comment Request; Charter School Facilities National Questionnaire

AGENCY: Office of Innovation and Improvement (OII), Department of Education (ED).

ACTION: Notice.

SUMMARY: In accordance with the Paperwork Reduction Act of 1995, ED is proposing a revision of an existing information collection.

DATES: Interested persons are invited to submit comments on or before January 29, 2018.

ADDRESSES: To access and review all the documents related to the information collection listed in this notice, please use http://www.regulations.gov by searching the Docket ID number ED-2017-ICCD-0144. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW, LBJ, Room 216-32, Washington, DC 20202-4537.

FOR FURTHER INFORMATION CONTACT: For specific questions related to collection activities, please contact Sathya Soumya, 202-260-0819.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Charter School Facilities National Questionnaire.

OMB Control Number: 1855-0024.

Type of Review: A revision of an existing information collection.

Respondents/Affected Public: State, Local, and Tribal Governments.

Total Estimated Number of Annual Responses: 200.

Total Estimated Number of Annual Burden Hours: 300.

Abstract: The Charter School Program needs reliable data to understand the current facilities landscape for charter schools. The Charter Schools Program, through the National Charter School Resource Center, administers a questionnaire conducted by the Colorado League of Charter Schools to gather data on charter schools facilities. This data helps to assess the true facilities challenges of the charter schools and what actions ED and the SEAs must take to better financially support the facilities needs of quality charter schools.

This survey can incite positive change, increase the involvement of state legislature to mitigate the financial issues of charter schools to obtain equitable facilities, and ensure charter schools receive an amount for facilities that is more commensurate with the amount provided for traditional public schools. CSOs in participating states have reported that the survey results have provided the charter school facilities discussion in their states credibility regarding the problems facing charter schools and have resulted in legislative and other gains in their state towards charter school facility equity. CSOs have also reported that the results allow them to continue to push the facilities discussion forward for future changes. ED would like to continue to use and administer this survey in additional states and compile the data from all states into a facilities database. ED plans to conduct this survey in approximately three to four states per year, depending on the size of the state and local resources of the CSO to support the survey. This database will provide comprehensive information about the facilities for charter schools and the issues that charter school face in trying to obtain adequate facilities. The League will produce a report and an analysis summarizing the findings per state. The attached survey currently represents about 90% of the questions that will be asked to each state. The survey will be customized to include state-specific questions.

Dated: November 21, 2017.
Stephanie Valentine,
Acting Director, Information Collection Clearance Division, Office of the Chief Privacy Officer, Office of Management.

[FR Doc. 2017-25597 Filed 11-27-17; 8:45 am]

BILLING CODE 4000-01-P